ENVIRONMENTAL PROTECTION AGENCY

[FRL-9997-12-Region 8]

Administrative Settlement Agreement and Order on Consent: Richardson Flat Tailings Site, Park City, Summit County, Utah

AGENCY: Environmental Protection Agency (EPA).

ACTION: Notice of proposed agreement; request for public comment.

SUMMARY: In accordance with the requirements of the Comprehensive Environmental Response, Compensation, and Liability Act of 1980, as amended (“CERCLA”), notice is hereby given of the proposed settlement under CERCLA, between the U.S. Environmental Protection Agency (“EPA”), the U.S. Department of Interior (“DOI”), the State of Utah (“State”), the Florence J. Gillmor Foundation, the Estate of Florence J. Gillmor (collectively, “Owners”), Summit County, a political subdivision of the State of Utah, and the Snyderville Basin Recreation District, a Special District in the State of Utah (collectively, “Purchaser”) to settle liabilities at the Richardson Flat Tailings Site in Summit County, Utah.

For thirty (30) days following the date of publication of this notice, the Agency will receive written comments relating to the agreement. The Agency will consider all comments received and may modify or withdraw its consent to the agreement if comments received disclose facts or considerations that indicate that the agreement is inappropriate, improper, or inadequate.

DATES: Comments must be submitted on or before August 26, 2019.

ADDRESSES: The proposed agreement and additional background information relating to the agreement, as well as the Agency's response to any comments are or will be available for public inspection at the EPA Superfund Record Center, 1595 Wynkoop Street, Denver, Colorado, by appointment. Comments and requests for a copy of the proposed agreement should be addressed to Matt Hogue, Enforcement Specialist, Superfund and Emergency Management Division, Environmental Protection Agency-Region 8, Mail Code 8SEM-PAC, 1595 Wynkoop Street, Denver, Colorado 80202, (303) 312-6591 and should reference the Richardson Flat Tailings Site.

FOR FURTHER INFORMATION CONTACT: Amelia Piggott, Senior Assistant Regional Counsel, Office of Regional Counsel, Environmental Protection Agency-Region 8, Mail Code 8ORC-LEC, 1595 Wynkoop Street, Denver, Colorado 80202, (303) 312-6410.

SUPPLEMENTARY INFORMATION: The proposed Settlement Agreement allows the Owners to make a cash payment: (1) To EPA and the State to resolve alleged civil CERCLA liability; and (2) to DOI and the State to resolve alleged natural resource damage liability. The proposed Settlement Agreement also facilitates the sale of the Property within the Site to Purchaser as a CERCLA Bona Fide Prospective Purchaser and provides for the performance of Work by Purchaser at the Property and for the payment of certain response costs incurred by the United States at or in connection with the Property. The Owners and Purchaser consent to and will not contest the authority of the United States to enter into the Agreement or to implement or enforce its terms. The Owners and Purchaser recognize that the Agreement has been negotiated in good faith and that the Agreement is entered into without the admission or adjudication of any issue of fact or law.

Dated: July 15, 2019.
Betsy Smidinger,
Division Director, Superfund and Emergency Management Division, U.S. Environmental Protection Agency, Region VIII.

[FR Doc. 2019-15852 Filed 7-24-19; 8:45 am]

BILLING CODE 6560-50-P